DEPARTMENT OF DEFENSE

Department of the Army

[Docket ID USA-2013-0003]

Privacy Act of 1974; System of Records

AGENCY: Department of the Army, DoD.

ACTION: Notice to amend a System of Records.

SUMMARY: The Department of the Army is amending a system of records notice in its existing inventory of record systems subject to the Privacy Act of 1974 (5 U.S.C. 552a), as amended.

DATES: This proposed action will be effective on April 22, 2013 unless comments are received which result in a contrary determination. Comments will be accepted on or before April 22, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Department of the Army, Privacy Office, U.S. Army Records Management and Declassification Agency, 7701 Telegraph Road, Casey Building, Suite 144, Alexandria, VA 22325-3905 or by calling (703) 428-6185.

SUPPLEMENTARY INFORMATION: The Department of the Army systems of records notices subject to the Privacy Act of 1974 (5 U.S.C. 552a), as amended, have been published in the Federal Register and are available from the address in FOR FURTHER INFORMATION CONTACT.

The Department of the Army proposes to amend a system of records notice in its inventory of record systems subject to the Privacy Act of 1974 (5 U.S.C. 552a), as amended. The proposed amendment is not within the purview of subsection (r) of the Privacy Act of 1974 (5 U.S.C. 552a), as amended, which requires the submission of a new or altered system report.

Dated: March 18, 2013.
Aaron Siegel,
Alternate Federal Register Liaison Officer, Department of Defense.

A0500-3c DAMO

System name:

Emergency Relocation Group (ERG) Roster Files (January 30, 2002, 67 FR 4411).

Changes:

* * * * *

Purpose(s):

Delete entry and replace with “To notify designated Headquarters, Department of the Army personnel as to their responsibilities and relocation assignments in conditions of emergency. The Emergency Alert and Notification System (SendWordNow) will execute the notification of the Emergency Relocation Group (ERG). Therefore, ERG members will ensure the execution of essential missions and functions during the emergency situation.”

* * * * *

Retention and disposal:

Delete entry and replace with “Keep in CFA until event occurs and then until no longer needed for conducting business, but not longer than 6 years after the event, then destroy.”

* * * * *

[FR Doc. 2013-06539 Filed 3-20-13; 8:45 am]

BILLING CODE 5001-06-P